Title 3—

The President

Proclamation 10319 of December 3, 2021

National Pearl Harbor Remembrance Day, 2021

By the President of the United States of America

A Proclamation

On December 7, 1941, the Imperial Japanese Navy attacked our forces at Pearl Harbor and other locations in Hawaii, taking the lives of 2,403 service members and civilians and leading the United States to declare its entrance into World War II. It was a day that still lives in infamy 80 years later. As we mark National Pearl Harbor Remembrance Day, we honor the patriots who perished, commemorate the valor of all those who defended our Nation, and recommit ourselves to carrying forth the ensuing peace and reconciliation that brought a better future for our world. Today, we give thanks to the Greatest Generation, who guided our Nation through some of our darkest moments and laid the foundations of an international system that has transformed former adversaries into allies.

A decade ago, I paid my respects at the USS Arizona Memorial—where 1,177 crewmen lost their lives on that terrible December day. To this day, beads of oil still rise to the surface of the water—metaphorical “Black Tears” shed for those lost in the attack. Reading those names etched in marble was a mournful reminder of the sacrifices and the human cost of protecting our Nation and the ideals this great country represents. Our Nation remains forever indebted to all those who gave their last full measure of devotion eight decades ago. We will never forget those who perished, and we will always honor our sacred obligation to care for our service members, veterans, and their families, caregivers, and survivors.

The Congress, by Public Law 103-308, as amended, has designated December 7 of each year as “National Pearl Harbor Remembrance Day.”

NOW, THEREFORE, I, JOSEPH R. BIDEN JR., President of the United States of America, do hereby proclaim December 7, 2021, as National Pearl Harbor Remembrance Day. I encourage all Americans to reflect on the courage shown by our brave warriors that day and remember their sacrifices. I ask us all to give sincere thanks and appreciation to the survivors of that unthinkable day. I urge all Federal agencies, interested organizations, groups, and individuals to fly the flag of the United States at half-staff on December 7, 2021, in honor of those American patriots who died as a result of their service at Pearl Harbor.

IN WITNESS WHEREOF, I have hereunto set my hand this third day of December, in the year of our Lord two thousand twenty-one, and of the Independence of the United States of America the two hundred and forty-sixth.

[FR Doc. 2021-26695

Filed 12-7-21; 8:45 am]

Billing code 3395-F2-P